DEPARTMENT OF DEFENSE

Department of the Army

Availability of Patent for Exclusive, Partially Exclusive, or Non-Exclusive License

AGENCY: U.S. Army Soldier and Biological Chemical Command, DoD.

ACTION: Notice.

SUMMARY: The Department of the Army announces the general availability of exclusive, partially exclusive, or nonexclusive licenses under the following patent listed in the SUPPLEMENTARY INFORMATION paragraph.

FOR FURTHER INFORMATION CONTACT: Mr. Robert Rosenkrans at U.S. Army Soldier and Biological Chemical Command, Kansas Street, Natick, MA 01760, phone (508) 233-4928 or e-mail: Robert.Rosenkrans@natick.army.mil.

SUPPLEMENTARY INFORMATION: Any licenses granted shall comply with 35 U.S.C. 209 and 37 CFR Part 404. The following patent number, title, and issue date is provided:

Patent Number: US 6,228,997 B1.

Title: Transesterification of Insoluble Polysaccharides.

Issue Date: May 8, 2001.
Luz D. Ortiz,
Army Federal Register Liaison Officer.

[FR Doc. 01-13158 Filed 5-23-01; 8:45 am]

BILLING CODE 3710-08-M